DEPARTMENT OF COMMERCE

National Oceanic and Atmospheric Administration

Sanctuary System Business Advisory Council: Public Meeting

AGENCY: Office of National Marine Sanctuaries (ONMS), National Ocean Service (NOS), National Oceanic and Atmospheric Administration (NOAA), Department of Commerce (DOC).

ACTION: Notice of open meeting.

SUMMARY: Notice is hereby given of a meeting of the Sanctuary System Business Advisory Council (council). The meeting is open to the public, and participants may provide comments at the appropriate time during the meeting.

DATES: The meeting will be held Wednesday, August 22, 2018, from 9:00 a.m. to 4:30 p.m. ET, and an opportunity for public comment will be provided around 4:00 p.m. ET. Both these times and agenda topics are subject to change.

ADDRESSES: The meeting will be held at JetBlue Airways Corporation, 27-01 Queens Plaza North, Long Island City, NY 11101. The meeting agenda, including times and topics, can be found here: http://sanctuaries.noaa.gov/management/bac/meetings.html.

FOR FURTHER INFORMATION CONTACT: LeAnn Hogan, Office of National Marine Sanctuaries, 1305 East West Highway, Silver Spring, Maryland 20910 (Phone: 240-533-0679; Fax: 301-713-0404; Email: LeAnn.Hogan@noaa.gov).

SUPPLEMENTARY INFORMATION: ONMS serves as the trustee for a network of underwater parks encompassing more than 600,000 square miles of marine and Great Lakes waters from Washington State to the Florida Keys, and from Lake Huron to American Samoa. The network includes a system of 13 national marine sanctuaries and Papahānaumokuākea and Rose Atoll marine national monuments. National marine sanctuaries protect our nation's most vital coastal and marine natural and cultural resources, and through active research, management, and public engagement, sustain healthy environments that are the foundation for thriving communities and stable economies. One of the many ways ONMS ensures public participation in the designation and management of national marine sanctuaries is through the formation of advisory councils. The Sanctuary System Business Advisory Council (council) has been formed to provide advice and recommendations to the Director regarding the relationship of ONMS with the business community. Additional information on the council can be found at http://sanctuaries.noaa.gov/management/ac/welcome.html.

Matters to be Considered: The meeting will provide an opportunity for council members to hear news from across the National Marine Sanctuary System and review and comment on program initiatives. For a complete agenda, including times and topics, please visit http://sanctuaries.noaa.gov/management/bac/meetings.html. This meeting notice is being issued under Section 315 of the National Marine Sanctuaries Act, 16 U.S.C. 1445A.

Authority: 16 U.S.C. Sections 1431, et seq.

(Federal Domestic Assistance Catalog Number 11.429 Marine Sanctuary Program)

Dated: June 27, 2018.
John Armor,
Director, Office of National Marine Sanctuaries, National Ocean Service, National Oceanic and Atmospheric Administration.

[FR Doc. 2018-15452 Filed 7-18-18; 8:45 am]

BILLING CODE 3510-NK-P